DEPARTMENT OF HEALTH AND HUMAN SERVICES

Food and Drug Administration

[Docket No. FDA-2014-N-0007]

Outsourcing Facility Fee Rates for Fiscal Year 2015; Correction

AGENCY: Food and Drug Administration, HHS.

ACTION: Notice; correction.

SUMMARY: The Food and Drug Administration is correcting a notice entitled “Outsourcing Facility Fee Rates for Fiscal Year 2015” that appeared in the Federal Register of August 1, 2014 (79 FR 44805). The document announced the rates for fiscal year 2015 for the establishment and reinspection fees related to human drug compounding outsourcing facilities that elect to register under the Federal Food, Drug, and Cosmetic Act. The document was published with the incorrect docket number. This document corrects that error.

FOR FURTHER INFORMATION CONTACT: Lisa Granger, Office of Policy, Food and Administration, 10990 New Hampshire Ave., Bldg. 32, Rm. 3330, Silver Spring, MD 20993-0002, 301-796-9115.

SUPPLEMENTARY INFORMATION: In the Federal Register of Friday, August 1, 2014, in FR Doc. 2014-18111, the following correction is made:

1. On page 44805, in the first column, in the Docket No. heading, “[Docket No. FDA-2013-N-0007]” is corrected to read “[Docket No. FDA-2014-N-0007]”.

Dated: August 21, 2014.
Peter Lurie,
Associate Commissioner for Policy and Planning.

[FR Doc. 2014-20331 Filed 8-26-14; 8:45 am]

BILLING CODE 4164-01-P